NATIONAL ARCHIVES AND RECORDS ADMINISTRATION

[NARA-2016-009]

Meeting of the Advisory Committee on the Presidential Library-Foundation Partnerships

AGENCY: National Archives and Records Administration (NARA)

ACTION: Notice of Advisory Committee Meeting.

SUMMARY: In accordance with the Federal Advisory Committee Act, as amended (5 U.S.C. appendix 2), NARA announces the following meeting of the Advisory Committee on Presidential Library-Foundation Partnerships.

DATES: The meeting will be on Wednesday, February 24, 2016, from 9:00 a.m. to 12:00 noon CDT.

ADDRESSES: Lyndon Baines Johnson Presidential Library and Museum; 2313 Red River Street; Austin, TX 78705.

FOR FURTHER INFORMATION CONTACT: Denise LeBeck by telephone at 301-837-3250 or by email at denise.lebeck@nara.gov.

SUPPLEMENTARY INFORMATION: The purpose of this meeting is to discuss the Presidential library program and topics related to public-private partnership between Presidential libraries and Presidential foundations. The meeting will be open to the public. Meeting attendees may enter from the Lyndon Baines Johnson Presidential Library and Museum's main entrance. You may have to show photo identification. Free parking is available in the Library's designated parking lot number 38.

Dated: December 14, 2015.
Patrice Little Murray,
Committee Management Officer.

[FR Doc. 2015-32302 Filed 12-22-15; 8:45 am]

BILLING CODE 7515-01-P